DEPARTMENT OF TRANSPORTATION

Federal Aviation Administration

14 CFR Part 71

[Docket No. FAA-2009-0959; Airspace Docket No. 09-ASO-30]

Amendment of Class D and E Airspace; Fort Stewart (Hinesville), GA

AGENCY: Federal Aviation Administration (FAA), DOT.

ACTION: Final rule.

SUMMARY: This action amends the Class D and E Airspace at Fort Stewart (Hinesville), GA, by changing the airport name from Fort Stewart, Wright AAF, to Wright AAF (Fort Stewart)/Midcoast Regional, Fort Stewart (Hinesville), GA. This is an administrative change and does not affect the boundaries or operating requirements of the airspace.

DATES: Effective 0901 UTC, February 11, 2010. The Director of the Federal Register approves this incorporation by reference action under title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

History

The Liberty County Airport in Hinesville, GA has closed and the associated Class E5 airspace has been removed. As a result, Wright AAF (Fort Stewart)/MidCoast Regional has become a joint use facility and the name of the airport will be amended to reflect this change. This rule will become effective on the date specified in the DATES section. Since this is an administrative change and does not affect the boundaries, altitudes, or operating requirements of the airspace, notice and public comment under 5 U.S.C. 553(b) are unnecessary. Class D and Class E airspace designations are published in paragraphs 5000 and 6005 respectively of FAA Order 7400.9T, dated August 27, 2009, and effective September 15, 2009, which is incorporated by reference in 14 CFR 71.1. The Class D and E airspace designations listed in this document will be published subsequently in the Order.

The Rule

This amendment to Title 14, Code of Federal Regulations (14 CFR) part 71 changes the airport name from Fort Stewart, Wright AAF, to Wright AAF (Fort Stewart)/Midcoast Regional, Fort Stewart, Hinesville, GA.

The FAA has determined that this regulation only involves an established body of technical regulations for which frequent and routine amendments are necessary to keep them operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Wright AAF (Fort Stewart)/Midcoast Regional, Fort Stewart (Hinesville), GA.

Lists of Subjects in 14 CFR Part 71

Airspace, Incorporation by reference, Navigation (Air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, effective September 15, 2009, is amended as follows:

Paragraph 5000 Class D Airspace

* * * * *

ASO GA D Fort Stewart (Hinesville), GA [Amended]

Wright AAF (Fort Stewart)/Midcoast Regional, GA

(Lat. 31°53′21″ N., long. 81°33′44″ W.)

That airspace extending upward from the surface up to and including 2,500 feet MSL within a 4.4-mile radius of Wright AAF (Fort Stewart)/Midcoast Regional. This Class D airspace area is effective during the specific dates and times established in advance by Notice to Airmen. The effective days and times will thereafter be continuously published in the Airport/Facility Directory.

* * * * *

Paragraph 6005 Class E Airspace Areas Extending Upward from 700 feet or More Above the Surface of the Earth.

* * * * *

ASO GA E5 Fort Stewart (Hinesville), GA [Amended]

Wright AAF (Fort Stewart)/Midcoast Regional, GA

(Lat. 31°53′21″ N., long. 81°33′44″ W.)

That airspace extending upward from 700 feet above the surface within a 6.6-mile radius of Wright AAF (Fort Stewart)/Midcoast Regional.

* * * * *

Issued in College Park, Georgia, on November 9, 2009.
Mark D. Ward,
Manager, Operations Support Group, Eastern Service Center, Air Traffic Organization.

[FR Doc. E9-28175 Filed 11-24-09; 8:45 am]

BILLING CODE 4910-13-P